DEPARTMENT OF AGRICULTURE

Natural Resource Conservation Service

Beaver Creek Watershed Project; Morgan and Washington Counties, Colorado

AGENCY: Natural Resource Conservation Service, Agriculture.

ACTION: Notice of a Finding of No Significant Impact.

SUMMARY: Pursuant to Section 102(2)© of the National Environmental Policy Act of 1969; the Council on Environmental Quality Regulations (40 CFR Part 1500); and the Natural Resource Conservation Service Regulations (7 CFR Part 650); the Natural Resource Conservation Service, U.S. Department of Agriculture, gives notice that an environmental impact statement is not being prepared for the Beaver Creek Watershed Project, Morgan and Washington counties, Colorado.

FOR FURTHER INFORMATION CONTACT: Allen Green, Colorado State Conservationist, Natural Resource Conservation Service, 655 Parfet St., Lakewood, Colorado, 80215-5517, telephone (720) 544-2802.

SUPPLEMENTARY INFORMATION: The environmental assessment of this federally assisted action documents that the project will not cause significant local, regional, or national impacts on the human environment. The findings of Allen Green, State Conservationist, indicate that the preparation and review of an environmental impact statement is not needed for this project.

The primary project purposes are, (1) Agricultural water management—improve water application effectiveness and reduce negative water quality and quantity impacts to surface and groundwater's including, the South Platte River. These impacts being from excessive loading of nitrates, nutrients, sediment, and salts. (2) Watershed protection—protect the soil resource base from excessive irrigation induced erosion and sedimentation, improve soil health through carbon sequestration. (3) Nonagricultural Water Management—creation and improvement of wetland and wildlife habitat as part of a three state initiative.

The planned works of improvement include, on-farm underground irrigation pipelines, on-farm concrete irrigation ditches; sprinkler irrigation systems, and structures for water control. These enduring practices are accompanied by facilitating management practices such as Irrigation Water Management.

This Notice of a Finding of No Significant Impact (FONSI) has been forwarded to the Environmental Protection Agency and to various Federal, State and Local agencies and interested parties. Copies of the FONSI and Plan/Environmental Assessment are available by request from Allen Green, Colorado State Conservationist. Basic data developed during the environmental evaluation are on file and may be reviewed by contacting Allen Green, State Conservationist.

No administrative action on implementation of this project will be taken until 30 days after the date this Notice is published in the Federal Register.

Allen Green,
State Conservationist.
(This activity is listed in the Catalog of Federal Domestic Assistance under NO. 10904, Soil and Water Conservation.)

[FR Doc. 04-27777 Filed 12-17-04; 8:45 am]

BILLING CODE 3410-16-P